DEPARTMENT OF EDUCATION

[Docket No.: ED-2022-SCC-0086]

Agency Information Collection Activities; Comment Request; Migrant Student Information Exchange (MSIX) Minimum Data Elements (MDEs)

AGENCY: Office of Elementary and Secondary Education (OESE), Department of Education (ED).

ACTION: Notice.

SUMMARY: In accordance with the Paperwork Reduction Act of 1995, ED is proposing a revision of a currently approved collection.

DATES: Interested persons are invited to submit comments on or before August 16, 2022.

ADDRESSES: To access and review all the documents related to the information collection listed in this notice, please use http://www.regulations.gov by searching the Docket ID number ED-2022-SCC-0086. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave SW, LBJ, Room 6W208D, Washington, DC 20202-8240.

FOR FURTHER INFORMATION CONTACT: For specific questions related to collection activities, please contact Benjamin Starr, (202) 245-8116.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Migrant Student Information Exchange (MSIX) Minimum Data Elements (MDEs).

OMB Control Number: 1810-0683.

Type of Review: Revision of a currently approved collection.

Respondents/Affected Public: State, Local, and Tribal Governments.

Total Estimated Number of Annual Responses: 46.

Total Estimated Number of Annual Burden Hours: 399,774.

Abstract: The Migrant Information Exchange (MSIX) is a nationwide electronic records exchange mechanism mandated under Title I, Part C of the Elementary and Secondary Education Act (ESEA), as amended by the Every Student Succeeds Act (ESSA). The Migrant Education Program (MEP) is authorized under sections 1301-1309 in Title I, Part C of the ESEA. MSIX and the minimum data elements (MDEs) are authorized under section 1308(b) of the ESEA, as amended. As a condition of receiving a grant of funds under the MEP, each State Educational Agency (SEA) is required to collect, maintain, and submit minimum health and education-related data to MSIX within established time-frames. Regulations CFR 34 § 200.85 for the MSIX issued by the U.S. Department of Education (the Department) have been in effect as of June 9, 2016. MSIX is designed to facilitate timely school enrollment, grade and course placement, accrual of secondary course credits and participation in the MEP for migratory children. The regulations help the Department determine accurate migratory child counts and meet other MEP reporting requirements.

The Department is requesting approval to for a revision of the 1810-0683 information collection that supports statutory requirements for data collection under Title I, Part C MEP.

The Office of Migrant Education (OME) would like specific feedback on the following additions to the MSIX MDEs:

(1) the addition of family contact MDEs, including phone numbers and email addresses;

(2) the addition of new acceptable values beyond “Male” and “Female” for MDE #9 (Sex).

Please see the “MSIX Minimum Data Elements” attachment for details on the MDE additions and changes. There have been edits made to MDE #s—1, 2, 5, 6, 7, 9, 11, 20, 26, 27, 29, 31, 32, 33, 42, 44, 45, 47, 48, 52, 64, 72, and 74. New MDEs are #'s 77, 78, 79, 80, and 81.

OME has received feedback to include the “Qualifying Activity” MDE. At this time, OME has decided not to include the “Qualifying Activity” MDE because the MDE by itself does not provide additional information regarding the child's qualifying arrival date since it is connected to the worker, not the child, on the National Certificate of Eligibility (COE). OME is seeking specific feedback on the usefulness of this MDE for the States and why it should be included.

Dated: June 13, 2022.
Kun Mullan,
PRA Coordinator, Strategic Collections and Clearance Governance and Strategy Division, Office of Chief Data Officer, Office of Planning, Evaluation and Policy Development.

[FR Doc. 2022-13046 Filed 6-16-22; 8:45 am]

BILLING CODE 4000-01-P